DEPARTMENT OF THE INTERIOR

National Park Service

[NPS-WASO-NAGPRA-22749; PPWOCRADN0-PCU00RP15.R50000]

Native American Graves Protection and Repatriation Review Committee: Request for Nominations

AGENCY: National Park Service, Interior.

ACTION: Notice.

SUMMARY: The National Park Service is soliciting nominations for one member of the Native American Graves Protection and Repatriation Review Committee (Review Committee). The Secretary of the Interior will appoint one member from nominations submitted by Indian tribes, Native Hawaiian organizations, or traditional Native American religious leaders. The nominee need not be a traditional Indian religious leader. The Review Committee was established by the Native American Graves Protection and Repatriation Act of 1990 (NAGPRA), and is regulated by the Federal Advisory Committee Act (FACA).

DATES: Nominations must be received by July 3, 2017.

ADDRESSES: Melanie O'Brien, Designated Federal Officer, Native American Graves Protection and Repatriation Review Committee, National NAGPRA Program (2253), National Park Service, 1849 C Street NW., Room 7360, Washington, DC 20240, (202) 354-2201 or via email nagpra_dfo@nps.gov.

FOR FURTHER INFORMATION CONTACT: Melanie O'Brien, Designated Federal Officer, Native American Graves Protection and Repatriation Review Committee, National NAGPRA Program (2253), National Park Service, 1849 C Street NW., Room 7360, Washington, DC 20240, (202) 354-2201 or via email nagpra_dfo@nps.gov.

SUPPLEMENTARY INFORMATION: The Review Committee is responsible for:

1. Monitoring the NAGPRA inventory and identification process;

2. Reviewing and making findings related to the identity or cultural affiliation of cultural items, or the return of such items;

3. Facilitating the resolution of disputes;

4. Compiling an inventory of culturally unidentifiable human remains and developing a process for disposition of such remains;

5. Consulting with Indian tribes and Native Hawaiian organizations and museums on matters within the scope of the work of the Review Committee affecting such tribes or organizations;

6. Consulting with the Secretary of the Interior in the development of regulations to carry out NAGPRA; and

7. Making recommendations regarding future care of repatriated cultural items.

The Review Committee consists of seven members appointed by the Secretary of the Interior. The Secretary may not appoint Federal officers or employees to the Review Committee. Three members are appointed from nominations submitted by Indian tribes, Native Hawaiian organizations, or traditional Native American religious leaders. At least two of these members must be traditional Indian religious leaders. Three members are appointed from nominations submitted by national museum or scientific organizations. One member is appointed from a list of persons developed and consented to by all of the other members.

Members serve as Special Government Employees and are required to complete annual ethics training. Members are appointed for 4-year terms and incumbent members may be reappointed for 2-year terms. The Review Committee's work is completed during public meetings. The Review Committee attempts to meet in person twice a year and meetings normally last two or three days. The Review Committee may hold one or more public teleconferences of several hours duration.

The Review Committee members serve without pay but reimbursed for each day of meeting attendance. Review Committee members are also reimbursed for travel expenses incurred in association with Review Committee meetings (25 U.S.C. 3006(b)(4)). Additional information regarding the Review Committee, including the Review Committee's charter, meeting protocol, and dispute resolution procedures, is available on the National NAGPRA Program Web site, at www.nps.gov/NAGPRA/REVIEW/.

Individuals who are federally registered lobbyists are ineligible to serve on all FACA and non-FACA boards, committees, or councils in an individual capacity. The term “individual capacity” refers to individuals who are appointed to exercise their own individual best judgment on behalf of the government, such as when they are designated Special Government Employees, rather than being appointed to represent a particular interest.

Nominations must:

1. Be submitted by an Indian tribe or Native Hawaiian organization on the official letterhead of the Indian tribe or Native Hawaiian organization.

2. If submitted by an Indian tribe or Native Hawaiian organization, affirm that the signatory is the official authorized by the Indian tribe or Native Hawaiian organization to submit the nomination.

3. If submitted by a Native American traditional religious leader, affirm that the signatory meets the definition of traditional Native American religious leader.

4. Provide the nominator's original signature, daytime telephone number, and email address.

5. Include the nominee's full legal name, home address, home telephone number, and email address.

Nominations should include the nominee's resume providing an adequate description of a nominee's qualifications, including information that would enable the Department of the Interior to make an informed decision regarding meeting the membership requirements of the Committee and permit the Department of the Interior to contact a potential member.

Authority: (5 U.S.C. Appendix 2); (25 U.S.C. 3006).

Alma Ripps,
Chief, Office of Policy.

[FR Doc. 2017-06444 Filed 3-31-17; 8:45 am]

BILLING CODE 4312-52-P